DEPARTMENT OF EDUCATION

[CFDA No: 84.184H]

Office of Safe and Drug-Free Schools—Grant Competition to Prevent High-Risk Drinking or Violent Behavior Among College Students—Notice Inviting Applications for New Awards for Fiscal Year (FY) 2003

Purpose of Program: The Grant Competition to Prevent High-Risk Drinking or Violent Behavior Among College Students provides awards to develop or enhance, implement, and evaluate campus- and/or community-based strategies to prevent high-risk drinking or violent behavior among college students.

For FY 2003 the competition for new awards focuses on projects designed to meet the priorities we describe in the Priorities section of this application notice.

Eligible Applicants: Institutions of higher education (IHEs), consortia thereof, public and private nonprofit organizations, or individuals.

Applications Available: February 14, 2003.

Deadline for Transmittal of Applications: March 31, 2003.

Deadline for Intergovernmental Review: May 30, 2003.

Estimated Available Funds: The Department expects to make available $2,250,000 for this program for FY 2003. The actual level of funding, if any, depends on final congressional action. However, we are inviting applications at this time to allow enough time to complete the grant process before the end of the current fiscal year.

Estimated Range of Awards: $100,000-$150,000.

Estimated Average Size of Awards: $125,000.

Estimated Number of Awards: 18.

Note: The Department is not bound by any estimates in this notice.

Project Period: Up to 24 months.

Applicable Regulations: (a) The Education Department General Administrative Regulations (EDGAR) in 34 CFR parts 74, 75, 77, 79, 80, 81, 82, 85, 86, 97, 98, and 99; and (b) the notice of final priority and selection criteria, as published in the Federal Register on December 27, 2000 (65 FR 82224-82226) and January 10, 2001 (66 FR 1963), apply to this competition.

Note: The regulations in 34 CFR part 86 apply to institutions of higher education only.

SUPPLEMENTARY INFORMATION: An application under this program should address the specific needs of the applicant and propose activities specifically designed to meet those needs. The Deputy Under Secretary strongly discourages applicants from using “form” applications or proposals that address general rather than specific local needs.

Priorities: This competition focuses on projects designed to meet either of the two priorities in the notice of final priorities for this program, published in the Federal Register on December 27, 2000 (65 FR 82224-82226) and January 10, 2001 (66 FR 1963).

Absolute Priority #1—Develop or Enhance, Implement, and Evaluate Campus- and/or Community-Based Strategies To Prevent High-Risk Drinking Among College Students

Under this priority, applicants are required to:

(1) Identify a specific student population to be served by the grant and provide a justification for its selection;

(2) Provide evidence that a needs assessment has been conducted on campus to document prevalence rates related to high-risk drinking by the population selected;

(3) Set measurable goals and objectives for the proposed project and provide a description of how progress toward achieving goals will be measured annually;

(4) Design and implement prevention strategies, using student input and participation, that research has shown to be effective in preventing high-risk drinking by the target population;

(5) Use a qualified evaluator to design and implement an evaluation of the project using outcomes-based (summative) performance indicators related to behavioral change and process (formative) measures that assess and document the strategies used; and

(6) Demonstrate the ability to start the project within 60 days after receiving Federal funding in order to maximize the time available to show impact within the grant period.

Absolute Priority #2—Develop or Enhance, Implement, and Evaluate Campus- and/or Community-Based Strategies To Prevent Violent Behavior Among College Students

Under this priority, applicants are required to:

(1) Identify a specific student population to be served by the grant and provide a justification for its selection;

(2) Provide evidence that a needs assessment has been conducted on campus to document prevalence rates related to violent behavior;

(3) Set measurable goals and objectives for the proposed project and provide a description of how progress toward achieving goals will be measured annually;

(4) Design and implement prevention strategies, using student input and participation, that research has shown to be effective in preventing violent behavior among college students;

(5) Use a qualified evaluator to design and implement an evaluation of the project using outcomes-based (summative) performance indicators related to behavioral change and process (formative) measures that assess and document the strategies used; and

(6) Demonstrate the ability to start the project within 60 days after receiving Federal funding in order to maximize the time available to show impact within the grant period.

Under 34 CFR 75.105(c)(3) we consider only applications that meet either of the priorities.

Selection Criteria: The following selection criteria are used to evaluate applications for new grants under this competition. The maximum score for all of these criteria is 100 points. The maximum score for each criterion or factor under that criterion is indicated in parentheses.

(1) Need for project. (15 points)

In determining the need for the proposed project, the following factors are considered:

(a) The magnitude or severity of the problem to be addressed by the proposed project. (10 points)

(b) The extent to which specific gaps or weaknesses in services, infrastructure, or opportunities have been identified and will be addressed by the proposed project, including the nature and magnitude of those gaps or weaknesses. (5 points)

(2) Significance. (20 points)

In determining the significance of the proposed project, the following factors are considered:

(a) The likelihood that the proposed project will result in system change or improvement. (5 points)

(b) The potential contribution of the proposed project to the development and advancement of theory, knowledge, and practices in the field of study. (10 points)

(c) The extent to which the proposed project involves the development or demonstration of promising new strategies that build on, or are alternatives to, existing strategies. (5 points)

(3) Quality of the project design. (30 points)

In determining the quality of the design of the proposed project, the following factors are considered:

(a) The extent to which the goals, objectives, and outcomes to be achieved by the proposed project are clearly specified and measurable. (10 points)

(b) The extent to which the design of the proposed project is appropriate to, and will successfully address, the needs of the target population or other identified needs. (5 points)

(c) The extent to which the design of the proposed project reflects up-to-date knowledge from research and effective practice. (10 points)

(d) The extent to which the proposed project will establish linkages with other appropriate agencies and organizations providing services to the target population. (5 points)

(4) Quality of project personnel. (10 points)

In determining the quality of project personnel, the following factors are considered:

(a) The extent to which the applicant encourages applications for employment from persons who are members of groups that have traditionally been underrepresented based on race, color, national origin, gender, age, or disability. (3 points)

(b) The qualifications, including relevant training and experience, of key project personnel. (7 points)

(5) Quality of the project evaluation. (25 points)

In determining the quality of the evaluation, the following factors are considered:

(a) The extent to which the methods of evaluation are thorough, feasible, and appropriate to the goals, objectives, and outcomes of the proposed project. (10 points)

(b) The extent to which the methods of evaluation include the use of objective performance measures that are clearly related to the intended outcomes of the project and will produce quantitative and qualitative data to the extent possible. (10 points)

(c) The extent to which the methods of evaluation will provide performance feedback and permit periodic assessment of progress toward achieving intended outcomes. (5 points)

For Applications and Further Information Contact: Richard Lucey, Jr., U.S. Department of Education, Office of Safe and Drug-Free Schools, 400 Maryland Avenue, SW., Room 3E252, Washington, DC 20202-6123. Telephone: 202/205-5471. Fax: 202/260-7767. E-mail: richard.lucey@ed.gov. To download a copy of the application, visit the Web site for the Office of Safe and Drug-Free Schools at http://www.ed.gov/offices/OSDFS.

If you use a telecommunications device for the deaf (TDD), you may call the Federal Information Relay Service (FIRS) at 800/877-8339.

Individuals with disabilities may obtain this document in an alternative format (e.g., Braille, large print, audiotape, or computer diskette) on request to the program contact person listed under For Applications and Further Information Contact.

Individuals with disabilities also may obtain a copy of the application package in an alternative format by contacting that person. However, the Department is not able to reproduce in an alternative format the standard forms included in the application package.

Application Procedures

Note: Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of Applications

In FY 2003, the U.S. Department of Education is continuing to expand its pilot project for electronic submission of applications to include additional formula grant programs and additional discretionary grant competitions. The Grant Competition to Prevent High-Risk Drinking or Violent Behavior Among College Students is one the programs included in the pilot project. If you are an applicant under the Grant Competition to Prevent High-Risk Drinking or Violent Behavior Among College Students, you may submit your application to us in either electronic or paper format.

The pilot project involves the use of the Electronic Grant Application System (e-Application) portion of the Grants Administration and Payment System (GAPS). Users of e-Application will be entering data on-line while completing their applications. You may not e-mail a soft copy of a grant application to us. If you participate in this voluntary pilot project by submitting an application electronically, the data you enter on-line will be saved into a database. We request your participation in e-Application. We shall continue to evaluate its success and solicit suggestions for improvement.

If you participate in e-Application, please note the following:

• Your participation is voluntary.

• You will not receive any additional point value because you submit a grant application in electronic format, nor will we penalize you if you submit an application in paper format. When you enter the e-Application system, you will find information about its hours of operation.

• You may submit all documents electronically, including the Application for Federal Education Assistance (ED 424), Budget Information—Non-Construction Programs (ED 524), and all necessary assurances and certifications.

• After you electronically submit your application, you will receive an automatic acknowledgement, which will include a PR/Award Number (an identifying number unique to your application).

• Within three working days after submitting your electronic application, fax a signed copy of the Application for Federal Education Assistance (ED 424) to the Application Control Center after following these steps:

(1) Print ED 424 from the e-Application system.

(2) The institution's Authorizing Representative must sign this form.

(3) Place the PR/Award number in the upper right hand corner of the hard copy signature page of the ED 424.

(4) Fax the signed ED 424 to the Application Control Center at 202/260-1349.

• We may request that you give us original signatures on all other forms at a later date.

• Closing Date Extension in Case of System Unavailability: If you elect to participate in the e-Application pilot for the Grant Competition to Prevent High-Risk Drinking or Violent Behavior Among College Students and you are prevented from submitting your application on the closing date because the e-Application system is unavailable, we will grant you an extension of one business day in order to transmit your application electronically, by mail, or by hand delivery. For us to grant this extension—

(1)You must be a registered user of e-Application, and have initiated an e-Application for this competition; and

(2)(a) The e-Application system must be unavailable for 60 minutes or more between the hours of 8:30 a.m. and 3:30 p.m. (ET), on the deadline date; or

(b) The e-Application system must be unavailable for any period of time during the last hour of operation (that is, for any period of time between 3:30 p.m. and 4:30 p.m. (ET)) on the deadline date. The Department must acknowledge and confirm these periods of unavailability before granting you an extension. To request this extension you must contact either (1) the person listed elsewhere in this notice under FOR FURTHER INFORMATION CONTACT or (2) the e-GRANTS help desk at 888/336-8930.

You may access the electronic grant application for the Grant Competition to Prevent High-Risk Drinking or Violent Behavior Among College Students at: http://e-grants.ed.gov.

We have included additional information about the e-Application pilot project (see Parity Guidelines between Paper and Electronic Applications) in the application package.

Electronic Access to This Document

You may view this document, as well as all other Department of Education documents published in the Federal Register, in text or Adobe Portable Document Format (PDF) on the Internet at the following site: http://www.ed.gov/legislation/FedRegister

To use PDF you must have Adobe Acrobat Reader, which is available free at this site. If you have questions about using PDF, call the U.S. Government Printing Office (GPO), toll free, at 888/293-6498; or in the Washington, DC, area at 202/512-1530.

Note: The official version of this document is the document published in the Federal Register. Free Internet access to the official edition of the Federal Register and the Code of Federal Regulations is available on GPO Access at: http://www.access.gpo.gov/nara/

Program Authority: 20 U.S.C. 7131.

Dated: February 12, 2003.
Judge Eric G. Andell,
Deputy Under Secretary for Safe and Drug-Free Schools.

[FR Doc. 03-3868 Filed 2-13-03; 8:45 am]

BILLING CODE 4000-01-P